DEPARTMENT OF JUSTICE

Foreign Claims Settlement Commission

Commencement of Iraq Claims Adjudication Program

AGENCY: Foreign Claims Settlement Commission of the United States.

ACTION: Notice.

SUMMARY: This notice announces the commencement by the Foreign Claims Settlement Commission (“Commission”) of a program for adjudication of a certain category of claims of United States nationals against the Government of Iraq, as defined below, which were settled under the “Claims Settlement Agreement Between the Government of the United States of America and the Government of the Republic of Iraq,” dated September 2, 2010 (“Claims Settlement Agreement”).

DATES: These claims can now be filed with the Commission and the deadline for filing will be June 26, 2013. The deadline for completion of this claims adjudication program will be March 26, 2014.

FOR FURTHER INFORMATION CONTACT: Brian M. Simkin, Chief Counsel, Foreign Claims Settlement Commission, 600 E Street NW., Room 6002, Washington, DC 20579, Tel. (202) 616-6975, FAX (202) 616-6993.

Notice of Commencement of Claims Adjudication Program, and of Program Completion Date

Pursuant to the authority conferred upon the Secretary of State and the Commission under section 4(a)(1)(C) of Title I of the International Claims Settlement Act of 1949, as amended (22 U.S.C. 1623(a)(1)(C)), the Foreign Claims Settlement Commission hereby gives notice of the commencement of a program for adjudication of a category of claims of United States nationals against the Government of Iraq. These claims, which have been referred to the Commission by the Department of State by letter dated November 14, 2012, are defined as:

claims of U.S. nationals for compensation for serious personal injuries knowingly inflicted upon them by Iraq ¹ in addition to amounts already recovered under the Claims Settlement Agreement for claims of hostage-taking ² provided that (1) the claimant has already received compensation under the Claims Settlement Agreement from the Department of State ³ for his or her claim of hostage-taking, and such compensation did not include economic loss based on a judgment against Iraq, and (2) the Commission determines that the severity of the serious personal injury suffered is a special circumstance warranting additional compensation. For purposes of this referral, “serious personal injury” may include instances of serious physical, mental, or emotional injury arising from sexual assault, coercive interrogation, mock execution, or aggravated physical assault.

¹ For purposes of this referral, “Iraq” shall mean the Republic of Iraq, the Government of the Republic of Iraq, any agency or instrumentality of the Republic of Iraq, and any official, employee or agent of the Republic of Iraq acting within the scope of his or her office, employment or agency.

² Hostage-taking, in this instance, would include unlawful detention by Iraq that resulted in an inability to leave Iraq or Kuwait after Iraq invaded Kuwait on August 2, 1990.

³ The payment already received by the claimant under the Claims Settlement Agreement compensated the claimant for his or her experience for the entire duration of the period in which the claimant was held hostage or was subject to unlawful detention and encompassed physical, mental, and emotional injuries generally associated with such captivity or detention.

In conformity with the terms of the referral, the Commission will determine the claims in accordance with the provisions of Title I of the International Claims Settlement Act of 1949, as amended, 22 U.S.C. 1621 et seq. The Commission will then certify to the Secretary of the Treasury those claims that it finds to be valid, for payment out of the claims fund established under the Claims Settlement Agreement.

The Commission will administer this claims adjudication program in accordance with its regulations, which are published in Chapter V of Title 45, Code of Federal Regulations (45 CFR 500 et seq.). In particular, attention is directed to 45 CFR 500.3(a), which limits the amount of attorney's fees that may be charged for legal representation before the Commission pursuant to 22 U.S.C. 1623(f). These regulations are also available at http://www.gpoaccess.gov/cfr/index.html.

Approval has been obtained from the Office of Management and Budget for the collection of this information. Approval No. 1105-0098, expiration date March 31, 2016.

Brian M. Simkin,
Chief Counsel.

[FR Doc. 2013-06874 Filed 3-25-13; 8:45 am]

BILLING CODE 4410-BA-P